DEPARTMENT OF COMMERCE

National Oceanic and Atmospheric Administration

[I.D. 071904F]

Endangered Species; File No. 1227

AGENCY: National Marine Fisheries Service (NMFS), National Oceanic and Atmospheric Administration (NOAA), Commerce.

ACTION: Issuance of permit modification.

SUMMARY: Notice is hereby given that NMFS Southwest Fisheries Science Center has been issued a modification to scientific research Permit No. 1227.

ADDRESSES: The modification and related documents are available for review upon written request or by appointment in the following offices:

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018.

FOR FURTHER INFORMATION CONTACT: Patrick Opay or Ruth Johnson, (301)713-2289.

SUPPLEMENTARY INFORMATION: On April 8, 2004, notice was published in the Federal Register (69 FR 18549) that a modification of Permit No. 1227, issued May 1, 2000 (65 FR 25312), had been requested by the above-named organization. The requested modification has been granted under the authority of the Endangered Species Act (ESA) of 1973, as amended (ESA; 16 U.S.C. 1531 et seq.) and the regulations governing the taking, importing, and exporting of endangered and threatened species (50 CFR 222-226).

The modification authorizes the permit holder to attach satellite transmitters using the harness backpack method allowed in the current permit on up to an additional 40 of the remaining leatherbacks that they are already permitted to capture in the eastern Pacific Ocean nearshore to California and Oregon. Twenty of these animals will also have VHF/TDR (time depth recorder)/sonic tag units attached to them by suction cup. The permit modification also authorizes the permit holder to attach VHF/TDR (time depth recorder)/sonic tag units with suction cups to 20 additional leatherbacks in the Monterey Bay area without having to capture them. The information from the satellite transmitters is part of studies on the migration and habitat use of this species in the Pacific Ocean. The VHF/TDR/sonic tag units will be used to study the fine-scale movements and diving behavior of leatherbacks in the vicinity of Monterey Bay and give important information regarding the foraging ecology of this species off the coast of California.

Issuance of this modification, as required by the ESA was based on a finding that such permit (1) was applied for in good faith, (2) will not operate to the disadvantage of the endangered species which is the subject of this permit, and (3) is consistent with the purposes and policies set forth in section 2 of the ESA.

Dated: July 27, 2004.
Patrick Opay,
Acting Chief, Permits, Conservation and Education Division, Office of Protected Resources, National Marine Fisheries Service.

[FR Doc. 04-17524 Filed 7-30-04; 8:45 am]

BILLING CODE 3510-22-S